DEPARTMENT OF THE INTERIOR

Fish and Wildlife Service

Availability of a Draft Environmental Assessment and Receipt of an Application for an Incidental Take Permit by Woodlands Group L.L.C. in Livingston Parish, LA

AGENCY: Fish and Wildlife Service, Interior.

ACTION: Notice.

SUMMARY: Woodlands Group L.L.C. (Applicant) seeks an incidental take permit (ITP) from the Fish and Wildlife Service (Service) pursuant to Section 10(a)(1)(B) of the Endangered Species Act of 1973, as amended (Act). The proposed action would involve approval of the Applicant's Habitat Conservation Plan (HCP), as required by Section 10(a)(2)(B) of the Act, to minimize and mitigate any incidental take of the Federally endangered red-cockaded woodpecker (Picoides borealis). The minimization and mitigation measures outlined in the Applicant's HCP to address adverse effects of the proposed action on protected species are described further in the SUPPLEMENTARY INFORMATION below.

The Service also announces the availability of an environmental assessment (EA) and HCP for the incidental take application. Copies of the EA and/or HCP may be obtained by making a request to the Regional Office (see ADDRESSES). Requests must be in writing to be processed. This notice also advises the public that the Service has made a preliminary determination that issuing the ITP is not a major Federal action significantly affecting the quality of the human environment within the meaning of Section 102(2)(C) of the National Environmental Policy Act of 1969 (NEPA), as amended. The Finding of No Significant Impact (FONSI) is based on information contained in the EA and HCP. The final determination will be made no sooner than 60 days from the date of this notice. This notice is provided pursuant to Section 10 of the Act and NEPA regulations (40 CFR 1506.6).

If you wish to comment, you may submit comments by any one of several methods. Please reference permit number TE037661-0 in such comments. You may mail comments to the Service's Regional Office (see ADDRESSES). You may also comment via the internet to “david_dell@fws.gov”. Please submit comments over the internet as an ASCII file avoiding the use of special characters and any form of encryption. Please also include your name and return address in your internet message. If you do not receive a confirmation from the Service that we have received your internet message, contact us directly at either telephone number listed below (see FOR FURTHER INFORMATION CONTACT). Finally, you may hand deliver comments to either Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not; however, consider anonymous comments. We will make all submissions from organizations or businesses, and from individuals identifying themselves as representatives or officials of organizations or businesses, available for public inspection in their entirety.

DATES: Written comments on the permit application, EA, and HCP should be sent to the Service's Regional Office (see ADDRESSES) and should be received on or before August 27, 2002.

ADDRESSES: Persons wishing to review the application, HCP, and EA may obtain a copy by writing the Service's Southeast Regional Office, Atlanta, Georgia. Documents will also be available for public inspection by appointment during normal business hours at the Regional Office, 1875 Century Boulevard, Suite 200, Atlanta, Georgia 30345 (Attn: Endangered Species Permits), or Field Supervisor, U.S. Fish and Wildlife Service, Ecological Services Field Office, 646 Cajundome Boulevard, Suite 400, Lafayette, Louisiana 70506. Written data or comments concerning the application, EA, or HCP should be submitted to the Regional Office. Comments and requests for the documentation must be in writing to be processed. Please reference permit number TE037661-0 in such comments, or in requests of the documents discussed herein.

FOR FURTHER INFORMATION CONTACT: Mr. David Dell, Regional Permit Coordinator, (see ADDRESSES above), telephone: 404/679-7313; or Mr. Troy Mallach, Fish and Wildlife Biologist, Lafayette Ecological Services Field Office (see ADDRESSES above), telephone 337/291-3123.

SUPPLEMENTARY INFORMATION: The subject permit would authorize take of red-cockaded woodpeckers on approximately 99 of the 971 acres owned by the Applicant in Livingston Parish, Louisiana. The proposed take would be incidental to otherwise lawful activities, including timber harvest and typical forest management activities on the Applicant's property (Project).

The red-cockaded woodpecker is a territorial, non-migratory species once common in the southern Coastal Plain from east Texas to Florida and north to Maryland, Missouri, and Kentucky. Red-cockaded woodpeckers roost and nest in cavities excavated in large, living pine trees that are at least 60 years old. The red-cockaded woodpecker is a cooperative breeder that lives in family groups of one to nine birds, with each bird nesting in a separate cavity; the aggregate of cavity trees used by a group is called a cluster. Red-cockaded woodpeckers prefer mature longleaf pine forests, but also inhabit loblolly, pond, slash, shortleaf, and Virginia pine stands. Without periodic fire to control hardwoods, red-cockaded woodpeckers abandon clusters as other cavity competitors and predators typical of hardwood habitats move in. The decline of the red-cockaded woodpecker is due primarily to loss of the old-growth, fire-maintained southern pine ecosystem as a result of logging, short-rotation silviculture, fire suppression, and conversion to non-forest land uses.

Recovery activities for the red-cockaded woodpecker are focused on Federal lands. Private lands are also important in the Service's recovery strategy to preserve genetic variability, to provide significant support populations within distinct physiographic regions, and to provide a donor source of juvenile red-cockaded woodpeckers for natural dispersal or translocation. Red-cockaded woodpeckers on private lands have generally declined owing to the reluctance of landowners to manage their lands as red-cockaded woodpecker habitat, given the Act's take restrictions on timber harvesting and development where the species is present. The Service considers that red-cockaded woodpeckers geographically isolated on private lands will eventually cease to exist unless private landowners are encouraged to manage their lands for the species.

The Applicant, by implementing the HCP, proposes to establish replacement groups within the only viable red-cockaded woodpecker population in southeastern Louisiana, at Big Branch Marsh National Wildlife Refuge (Refuge). The geographic scope of the HCP is approximately 99 acres of the Applicant's land holdings in Livingston Parish, Louisiana, and approximately 750 acres on Big Branch Marsh National Wildlife Refuge. The biological goal of the HCP is to achieve no net loss of red-cockaded woodpecker groups in southeastern Louisiana. The Applicant will provision seven recruitment territories on the Refuge and translocate juvenile red-cockaded woodpeckers there from the Project area to replace three groups taken incidental to timber harvest; the Refuge will continue to protect and manage habitat to further increase its red-cockaded woodpecker population. The Applicant and the Service believe the HCP would help accelerate stabilization of the Refuge's red-cockaded woodpecker population, thus enabling it to serve as a donor source of juveniles for translocation elsewhere. As a direct result of the Applicant's HCP, the Service will establish Conservation Partnerships with the Louisiana Department of Wildlife and Fisheries and any qualified private landowner who is willing and able to accept surplus juvenile red-cockaded woodpeckers from the Refuge as they become available.

The ITP would authorize take of three red-cockaded woodpecker groups on the Applicant's property incidental to timber management activities, over the proposed 4-year permit duration. Among the minimization and mitigation measures proposed by the Applicant are no take of red-cockaded woodpeckers during the breeding season; establishment of three replacement groups on Big Branch Marsh National Wildlife Refuge by provisioning recruitment territories, translocating juveniles fledged on the Applicant's property, and monitoring formation of breeding pairs; and funding an endowment for habitat management (prescribed burning) over 5 years for the three additional groups established on Big Branch Marsh National Wildlife Refuge.

The Service evaluated the environmental consequences of three alternatives to the proposed action in the EA, which contains the Applicant's HCP as an Appendix. Alternative 1 is the Service's proposed action, which includes implementation of the Applicant's HCP and the Conservation Partnership. The no-action alternative (Alternative 2) would prevent the Applicant from harvesting timber on approximately 99 acres of occupied RCW habitat. Harvesting the remaining area of mature pine forest would still result in the natural extirpation of the three groups on the Applicant's property, and three groups on the adjacent property, within 20 years. That natural extirpation would occur due to habitat fragmentation and deterioration, geographic and demographic isolation, small population size, and lack of intensive pro-active management (especially prescribed fire or other hardwood control actions). Alternative 3 would involve mitigation of the Applicant's three groups on a different, privately owned mitigation site in southeastern Louisiana or elsewhere. That alternative was determined unsuitable because other existing recipient populations in southeastern Louisiana are too small and isolated to serve as acceptable mitigation sites, and no other private ownership elsewhere in Louisiana was both willing and able to accept mitigation groups at this time. After examining all mitigation alternatives, the Service decided that the proposed action (Alternative 1), which would accelerate the stabilization of one red-cockaded woodpecker population at Big Branch Marsh National Wildlife Refuge and the reintroduction or augmentation of another population as restored habitat on private land becomes available, would result in the greatest biological benefit to the red-cockaded woodpecker.

As stated above, the Service has made a preliminary determination that the issuance of the ITP is not a major Federal action significantly affecting the quality of the human environment within the meaning of Section 102(2)(C) of NEPA. This preliminary information may be revised due to public comment received in response to this notice and is based on information contained in the EA and HCP. An appropriate excerpt from the FONSI reflecting the Service's finding on the application is provided below:

Based on the analysis conducted by the Service, it has been determined that:

1. Issuance of an ITP would not have significant effects on the human environment in the project area.

2. The proposed take is incidental to an otherwise lawful activity.

3. The Applicant has ensured that adequate funding will be provided to implement the measures proposed in the submitted HCP.

4. Other than impacts to endangered and threatened species as outlined in the documentation of this decision, the indirect impacts which may result from issuance of the ITP are addressed by other regulations and statutes under the jurisdiction of other government entities. The validity of the Service's ITP is contingent upon the Applicant's compliance with the terms of the permit and all other laws and regulations under the control of State, local, and other Federal governmental entities.

The Service will also evaluate whether the issuance of a Section 10(a)(1)(B) ITP complies with Section 7 of the Act by conducting an intra-Service Section 7 consultation. The results of the biological opinion, in combination with the above findings, will be used in the final analysis to determine whether or not to issue the ITP.

Dated: June 14, 2002.
Tom M. Riley,
Acting Regional Director.

[FR Doc. 02-16323 Filed 6-27-02; 8:45 am]

BILLING CODE 4310-55-P